ENVIRONMENTAL PROTECTION AGENCY

40 CFR Part 180

[EPA-HQ-OPP-2023-0069; FRL-10579-09-OCSPP]

Receipt of a Pesticide Petition Filed for Residues of Pesticide Chemicals in or on Various Commodities; September 2023

AGENCY: Environmental Protection Agency (EPA).

ACTION: Notice of filing of petition and request for comment.

SUMMARY: This document announces the Agency's receipt of an initial filing of a pesticide petition requesting the establishment or modification of regulations for residues of pesticide chemicals in or on various commodities.

DATES: Comments must be received on or before November 27, 2023.

ADDRESSES: Submit your comments, identified by docket identification (ID) number EPA-HQ-OPP-2023-0069, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Charles Smith, Registration Division (RD) (7505T), main telephone number: (202) 566-2427, email address: RDFRNotices@epa.gov. The mailing address for each contact person is Office of Pesticide Programs, Environmental Protection Agency, 1200 Pennsylvania Ave. NW, Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit CBI to EPA through https://www.regulations.gov or email. If you wish to include CBI in your comment, please follow the applicable instructions at https://www.epa.gov/dockets/commenting-epa-dockets#rules and clearly mark the part or all of the information that you claim to be CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing receipt of a pesticide petition filed under section 408 of the Federal Food, Drug, and Cosmetic Act (FFDCA), 21 U.S.C. 346a, requesting the establishment or modification of regulations in 40 CFR part 180 for residues of pesticide chemicals in or on various food commodities. The Agency is taking public comment on the request before responding to the petitioner. EPA is not proposing any particular action at this time. EPA has determined that the pesticide petition described in this document contains data or information prescribed in FFDCA section 408(d)(2), 21 U.S.C. 346a(d)(2); however, EPA has not fully evaluated the sufficiency of the submitted data at this time or whether the data supports granting of the pesticide petition. After considering the public comments, EPA intends to evaluate whether and what action may be warranted. Additional data may be needed before EPA can make a final determination on this pesticide petition.

Pursuant to 40 CFR 180.7(f), a summary of the petition that is the subject of this document, prepared by the petitioner, is included in a docket EPA has created for this rulemaking. The docket for this petition is available at https://www.regulations.gov.

As specified in FFDCA section 408(d)(3), 21 U.S.C. 346a(d)(3), EPA is publishing notice of the petition so that the public has an opportunity to comment on this request for the establishment or modification of regulations for residues of pesticides in or on food commodities. Further information on the petition may be obtained through the petition summary referenced in this unit.

A. Amended Tolerances for Non-Inerts

1. PP 3E9061. EPA-HQ-OPP-2023-0258. Interregional Research Project Number 4 (IR-4), IR-4 Project Headquarters, North Carolina State University, 1730 Varsity Drive, Venture IV, Suite 210, Raleigh, NC 27606, requests to amend 40 CFR 180.629, upon the approval of the requested tolerances, by removing the established tolerances for residues of the fungicide flutriafol, including its metabolites and degradates in or on the following commodities: Brassica, head and stem (subgroup 5A) at 1.5 parts per million (ppm); brassica, leafy greens (subgroup 5B) at 7.0 ppm; cotton, undelinted seed at 0.50 ppm; fruit, pome group 11-09 at 0.40 ppm; fruit stone, group 12-10 at 1.5 ppm; and vegetable, leafy, except brassica, crop group 4, except head lettuce and radicchio at 10 ppm. Contact: RD.

2. PP 3E9064. EPA-HQ-OPP-2023-0257. IR-4, IR-4 Project Headquarters, North Carolina State University, 1730 Varsity Drive, Venture IV, Suite 210, Raleigh, NC 27606, requests to amend 40 CFR 180.601 by removing the established tolerances for residues of the fungicide cyazofamid, 4-chloro-2-cyano-N,N-dimethyl-5-(4-methylphenyl)-1H-imidazole-1-sulfonamide, including its metabolites and degradates, in or on the following raw agricultural commodities: Bean, succulent, at 0.5 ppm; and bean, succulent shelled, at 0.08 ppm. Contact: RD.

B. New Tolerance Exemptions for Inerts (Except PIPS)

1. PP IN-11737. EPA-HQ-OPP-2023-0484. Sun Chemical, 5020 Spring Grove Avenue, Cincinnati, OH, 45232, requests to establish an exemption from the requirement of a tolerance for residues of aluminum (CAS Reg. No. 7429-90-5) when used as a pesticide inert ingredient (seed treatment colorant) in pesticide formulations under 40 CFR 180.920. The petitioner believes no analytical method is needed because it is not required for an exemption from the requirement of a tolerance. Contact: RD.

2. PP IN-11753. EPA-HQ-OPP-2023-0485. Ecolab USA Inc., 1 Ecolab Place, St. Paul, MN 55102, requests to establish an exemption from the requirement of a tolerance for residues of Sodium C14-C16 Alpha Olefin (CAS Reg. No. 68439-57-6) when used as a pesticide inert ingredient (surfactant) in pesticide formulations under 40 CFR 180.940(a). The petitioner believes no analytical method is needed because it is not required for an exemption from the requirement of a tolerance. Contact: RD.

C. New Tolerances for Non-Inerts

1. PP 2E9046. EPA-HQ-OPP-2023-0464. Mitsui Chemicals Agro, Inc. (MCAG) c/o BASF Corporation 26 Davis Drive, P.O. Box 13528, Research Triangle Park, NC 27709, requests to establish an import tolerance in 40 CFR part 180 for residues of the insecticide, broflanilide, in or on the brassica head and stem vegetables (group 5-16) at 0.6 ppm; fruiting vegetables (group 8-10) at 0.1 ppm; tomato, dried at 0.7 ppm; tomato, paste at 0.3 ppm; leafy vegetables (group 4-16) at 4.0 ppm; leaf petiole vegetables (subgroup 22B) at 1.5 ppm; soybean at 0.06 ppm; and coffee at 0.01 ppm. An independently validated analytical method was submitted for analyzing residues of parent broflanilide and its metabolites S(PFP-OH)-8007 and DM-8007, each with appropriate sensitivity, in all crop and processed commodities. Contact: RD.

2. PP 3E9061. EPA-HQ-OPP-2023-0258. IR-4, IR-4 Project Headquarters, North Carolina State University, 1730 Varsity Drive, Venture IV, Suite 210, Raleigh, NC 27606 requests to establish tolerances in 40 CFR 180.629 for residues of the fungicide flutriafol, [(±)-α-(2-fluorophenyl)-α-(4-fluorophenyl)-1H-1,2,4-triazole-1-ethanol], including its metabolites and degradates in or on the following commodities: Brassica, leafy greens, subgroup 4-16B at 7 ppm; celtuce at 10 ppm; cottonseed subgroup 20C at 0.5 ppm; fennel, Florence, fresh leaves and stalk at 10 ppm; fruit, pome, group 11-10 at 0.4 ppm; fruit, stone, group 12-12 at 1.5 ppm; kohlrabi at 1.5 ppm; leafy greens subgroup 4-16A, except head lettuce and radicchio at 10 ppm; leaf petiole vegetable subgroup 22B at 10 ppm; tropical and subtropical, small fruit, edible peel, subgroup 23A at 0.01 ppm; and vegetable, brassica, head and stem, group 5-16 at 1.5 ppm. Compliance with the tolerances is to be determined by measuring flutriafol only. The nature of the residues of flutriafol is adequately understood and an acceptable analytical method is available for enforcement purposes. Contact: RD.

3. PP 3E9064. EPA-HQ-OPP-2023-0257. IR-4, IR-4 Project Headquarters, North Carolina State University, 1730 Varsity Drive, Venture IV, Suite 210, Raleigh, NC 27606 requests to establish tolerances in 40 CFR 180.601 for residues of the fungicide cyazofamid, including its metabolites and degradates, in or on the following raw agricultural commodities: Chick pea, edible podded, at 0.5 ppm; chick pea, succulent shelled, at 0.08 ppm; edible podded bean subgroup 6-22A at 0.5 ppm; parsnip root at 0.09 ppm; pulses, dried shelled bean, except soybean, subgroup 6-22E at 0.03 ppm; and succulent shelled bean subgroup 6-22C at 0.08 ppm. Compliance with the tolerance levels specified are to be determined by measuring only the sum of 4-chloro-2-cyano-N,N-dimethyl-5-(4-methylphenyl)-1H-imidazole-1- sulfonamide and its metabolite, 4-chloro-5-(4-methylphenyl)-1H-imidazole-2-carbonitrile, calculated as the stoichiometric equivalent of cyazofamid. Liquid chromatography/mass spectrometry/mass spectrometry (LC/MS/MS) methods are available for the enforcement of tolerances for cyazofamid residues of concern. Contact: RD.

4. PP 1F8978. EPA-HQ-OPP-2022-0257. Belchim US Crop Protection Corporation, 225 Wilmington West, Chester Pike, Suite 200, Chadds Ford, PA 19317, requests to establish a tolerance in 40 CFR part 180 for residues of the herbicide pyridate in or on dry pea vines, dry pea hay, dry pea seed (dried), soybean forage, soybean hay, and soybean seed (dried) at 0.05 ppm. The HPLC-MS/MS residue analytical method is used to measure and evaluate the chemical pyridate. Contact: RD.

5. PP 2F9040. EPA-HQ-OPP-2023-0246. ISK Biosciences Corporation, 7470 Auburn Road, Suite A, Concord, Ohio 44077, requests to establish tolerances in 40 CFR 180.713(a)(1) for residues of the herbicide tiafenacil, including its metabolites and degradates, in or on pulses, dried shelled bean, except soybean, subgroup 6-22E at 0.03 ppm; pulses, dried shelled pea, subgroup 6-22F at 0.05 ppm; citrus fruit, group 10-10 at 0.01 ppm; pome fruit, group 11-10 at 0.01 ppm; stone fruit, group 12-12 at 0.01 ppm; tree nut, group 14-12 at 0.01 ppm; barley subgroup 15-22B at 0.015 ppm; sweet corn subgroup 15-22D at 0.01 ppm; grain sorghum and millet subgroup 15-22E at 0.01 ppm; rapeseed, subgroup 20A at 0.015 ppm; and peanut at 0.01 ppm, and in 40 CFR 180.713(a)(2) for residues of the herbicide tiafenacil, including its metabolites and degradates, in or on almond hulls at 0.03 ppm; barley, hay at 0.07 ppm; barley, straw at 0.04 ppm; corn, sweet, forage at 0.01 ppm; corn, sweet, stover at 0.015 ppm; pea, straw at 7 ppm; sorghum, forage at 0.01 ppm; and sorghum, stover at 0.015 ppm. Adequate enforcement methodology LC/MS/MS methods for plant and livestock commodities are available to enforce the tolerance expression. Contact: RD.

Authority: 21 U.S.C. 346a.

Dated: October 18, 2023.
Delores Barber,
Director, Information Technology and Resources Management Division, Office of Program Support.

[FR Doc. 2023-23472 Filed 10-25-23; 8:45 am]

BILLING CODE 6560-50-P